DEPARTMENT OF DEFENSE

Department of the Army; Corps of Engineers

Intent To Prepare a Programmatic Environmental Impact Statement for the Chesapeake Bay Oyster Recovery Project, Virginia & Maryland

AGENCY: Department of the Army, U.S. Army Corps of Engineers, DOD.

ACTION: Notice of intent.

SUMMARY: The U.S. Army Corps of Engineers (USACE), Baltimore (NAB) and Norfolk (NAO) Districts published a Notice of Intent (NOI) (71 FR 14857) for the Chesapeake Bay Native Oyster Recovery study on March 24, 2006. That NOI announced that the USACE Baltimore and Norfolk Districts would prepare a single, integrated Native Oyster Restoration Master Plan (NORMP) and Programmatic Environmental Impact Statement (PEIS) for native oyster recovery in the entire Chesapeake Bay (including both Maryland and Virginia). The USACE is undertaking native oyster recovery in the Chesapeake Bay to support efforts to reverse the ongoing decline in oyster resources throughout the Bay.

The USACE is now announcing a major change in the timing of the NORMP and PEIS. The schedule for the NORMP and PEIS was delayed so that the document could be tiered to the “Programmatic EIS for Oyster Restoration in Chesapeake Bay Including the Use of a Native and/or Nonnative Oyster” (PEIS ORCB). The preferred alternative identified in the PEIS recommends “using a combination of alternatives that involves only the native Eastern oyster (Crassostrea virginica).” Consistent with the preferred alternative, the USACE will expand upon and further develop plans and recommendations for Chesapeake Bay native oyster restoration in the NORMP and PEIS.

FOR FURTHER INFORMATION CONTACT: Questions and comments about the NORMP and/or PEIS can be addressed to Mr. Craig Seltzer, Norfolk District U.S. Army Corps of Engineers, ATTN: CENAO-PM-PA, 803 Front Street, Norfolk, VA 23510. E-mail address: Craig.L.Seltzer@usace.army.mil and phone number: 757-201-7390 or Ms. Anna Compton, Baltimore District, U.S. Army Corps of Engineers, ATTN: CENAB-PL-P, 10 S. Howard Street, Baltimore, MD 21201. E-mail address: Anna.M.Compton@usace.army.mil and phone number: 410-962-4633. Please include your name and address in your message.

SUPPLEMENTARY INFORMATION: 1. The Baltimore District previously published a NOI (69 FR 68887) for the Chesapeake Bay Native Oyster Recovery study on November 26, 2004. That NOI indicated that the Baltimore District would prepare a Draft EIS for native oyster (Crassostrea virginica) recovery activities within Maryland waters of the Chesapeake Bay. A second NOI (71 FR 14857) was published for the Chesapeake Bay Native Oyster Recovery study on March 24, 2006. That NOI announced that the USACE Baltimore and Norfolk Districts would prepare a single, integrated NORMP and PEIS for native oyster recovery in the entire Chesapeake Bay.

2. To the fullest extent possible, the PEIS will be integrated with analyses and consultation required by the Fish and Wildlife Coordination Act of 1958, as amended; the National Historic Preservation Act of 1966, as amended; the Coastal Zone Management Act of 1972, as amended; the Endangered Species Act of 1973, as amended; the Marine Protection, Research and Sanctuaries Act of 1972, as amended; the Clean Water Act of 1977, as amended; and other applicable laws and regulations.

3. The NORMP/PEIS will be written in cooperation with the local sponsors, the Maryland Department of Natural Resources and Virginia Marine Resources Commission.

4. The NORMP/PEIS will incorporate science, policy, and experience from a number of sources to develop a comprehensive approach to oyster restoration in Maryland and Virginia. The purpose of the NORMP is to lay out a road map for a long-term, large-scale restoration of native oysters in the entire Chesapeake Bay. All suitable locations and techniques available for native oyster restoration will be identified and explored, and, if feasible, will be included in the NORMP/PEIS.

5. Previously performed oyster restoration activities by the Baltimore District include the: Creation of new oyster bars and rehabilitation of existing non-productive bars; construction of seed bars for production and collection of seed oysters or “spat”; planting of hatchery produced and seed bar spat on new and rehabilitated bars; and monitoring of implemented projects.

6. Previously performed oyster restoration activities by the Norfolk District include: Construction of permanent oyster reef sanctuaries; seeding of reefs with disease resistant DEBY™ strain oysters; adaptive management and monitoring; and managed spat-on-shell production areas with oysters moved to other sites in the Bay as part of a genetic rehabilitation stocking effort. This work is being conducted under the authority provided by Section 704(b) of the Water Resources Development Act (WRDA) of 1986, as amended.

7. Additional public scoping meetings will not be held for the NORMP and PEIS. This decision was driven primarily by the fact that the lead agencies conducted public scoping meetings in Maryland on the NORMP and PEIS in 2005, prior to the decision to prepare an integrated Maryland-Virginia master plan. Also, during the 60-day public comment period following the publication of the Draft PEIS-ORCB (October 17-December 15, 2008), lead agencies coordinated a series of public meetings to receive comments on the document. This document included the alternative of expanding native oyster restoration, which received much public input; therefore, this input will adequately facilitate scoping for this phase of the National Environmental Policy Act (NEPA) document development and will satisfy 40 CFR 1501.7. The USACE will conduct public meetings during the Draft NORMP/PEIS 45-day coordination and public review process scheduled for early 2011, and will include interested parties throughout the development of the PEIS through informational meetings, Web site postings, and other means.

8. All interested federal, state, and local agencies, interested private and public organizations, affected Indian tribes, and individuals are invited to submit written comments concerning the NORMP/PEIS within 30 days of the date of this notice.

9. The anticipated date of publication of the draft PEIS is March 2011. The PEIS will be prepared in accordance with (1) NEPA of 1969, as amended (42 U.S.C. 4321 et seq.), (2) regulations of the Council on Environmental Quality for implementing the procedural provisions of NEPA (40 CFR parts 1500-1508), and (3) USACE Procedures for Implementing NEPA (33 CFR part 230).

Amy M. Guise,
Chief, Civil Project Development Branch.

[FR Doc. E9-22553 Filed 9-17-09; 8:45 am]

BILLING CODE 3710-KF-P